ENVIRONMENTAL PROTECTION AGENCY

[FRL-6872-7]

Proposed CERCLA Prospective Purchaser Agreement; Master Metals, Inc., Superfund Site; City of Cleveland, Cuyahoga County, OH

Correction

In notice document 00-24045 appearing on page 56577 in the issue of Tuesday, September 19, 2000, make the following correction:

On page 56577, in the second column, in the DATES section, “September 19, 2000” should read “October 19, 2000”.

[FR Doc. C0-24045 Filed 9-26-00; 8:45 am]

BILLING CODE 1505-01-D